DEPARTMENT OF HOMELAND SECURITY

[Docket No. CISA-2022-0015]

Revision of a Currently Approved Information Collection for the State, Local Tribal and Private Sector (SLTPS) Clearance Program

AGENCY: Cybersecurity and Infrastructure Security Agency (CISA), Department of Homeland Security (DHS).

ACTION: 60-Day notice and request for comments; revision of information collection request: 1670-0013.

SUMMARY: CISA is issuing a 60-day notice and request for comments to revise Information Collection Request (ICR) 1670-0013. CISA will submit the ICR to the Office of Management and Budget (OMB) for review and clearance in accordance with the Paperwork Reduction Act of 1995.

DATES: Comments are due January 20, 2023.

ADDRESSES: You may submit comments, identified by docket number CISA-2022-0015 through the Federal eRulemaking Portal available at http://www.regulations.gov. Follow the instructions for submitting comments.

Instructions: All comments received via https://www.regulations.gov will be posted to the public docket at https://www.regulations.gov, including any personal information provided.

Do not submit comments that include trade secrets, confidential commercial or financial information, Protected Critical Infrastructure Information (PCII), or Sensitive Security Information (SSI) directly to the public regulatory docket. Contact the individual listed in the FOR FURTHER INFORMATION CONTACT section below with questions about comments containing such protected information. CISA will not place comments containing such protected information in the public docket and will handle them in accordance with applicable safeguards and restrictions on access. Additionally, CISA will hold them in a separate file to which the public does not have access and place a note in the public docket that CISA has received such protected materials from the commenter. If CISA receives a request to examine or copy this information, CISA will treat it as any other request under the Freedom of Information Act (FOIA), 5 U.S.C. 552, and the Department's FOIA regulation found in part 5 of Title 6 of the Code of Federal Regulations (CFR).

FOR FURTHER INFORMATION CONTACT: Quintin Whitaker, 202-805-4959 PSCP@hq.dhs.gov.

SUPPLEMENTARY INFORMATION: Partnerships between the U.S. Government and the state, local tribal and private sector at times necessitate the sharing of classified information. The State, Local, Tribal and Private Sector (SLTPS) Clearance Request Form facilitates this sharing by sponsoring security clearances for certain members of each sector based on either their membership on a Sector Coordinating Council (SCC)/association or their infrastructure protection job-related duties and their need-to-know. The SLTPS is designed to sponsor security clearances for state, local, tribal and private sector officials involved in the infrastructure protection mission. These partners are subject matter experts within specific industries and have specialized knowledge not available within the Department of Homeland Security (DHS) and other Federal Departments or Agencies. Private citizens do not receive monetary compensation for their time. CISA created this program to sponsor clearances for these individuals who are not employed by or contracted with another Federal agency (the traditional means of obtaining a clearance) and must have clearances.

The Cyber Information Sharing and Collaboration Agreement (CISCA) and Classified Critical Infrastructure Protection Program (CCIPP) nominees will also use the form in the same manner as the SLTPS. The form updates will include adding State and Local, CISCA and CCIPP to the drop-down capabilities. Type of submission will have a dropdown capability added. Subsectors will be added to some of the Sectors. A generic approving signature title will be added.

CISA collects necessary information through 1670-0013 to facilitate security clearances needed for sharing classified information with the vetted SLTPS Stakeholders. The U.S. Government is authorized to ask for this information under sections 201 and 229 of the Homeland Security Act (Pub. L. 107-296, 6 U.S.C. 121, 150), and Executive Orders 12968, 13526, 13549, 13636, and 13691 which authorize the collection of this information.

In order to begin this process of adjudicating a nominee to participate in the clearance program, federal nominators will complete the DHS Form 9014, State, Local, Tribal and Private Sector Clearance Request Form, excluding their date of birth, place of birth and social security number. The federal nominator will sign the form and have it approved by a senior-level official from the corresponding Federal Department or Agency. Before being submitted to the CISA Office of the Chief Security Officer (OCSO) SLTPS Administrator via the CISA Action Task Tracker (CATT), the nominee would have been deemed to have a CISA mission and meet the requirements and criteria as outlined in Executive Order (E.O.) 13549, the Department of Homeland Security, Classified National Security Information Program for SLTPS Implementing Directive and E.O. 13691, sec. 4(c), and 32 CFR part 117, sec. 117.22 of the National Industrial Security Program Operating Manual (NISPOM). The SLTPS Administrator will extract the application from the electronic tracking system and will capture first and last name, clearance level being requested, sector or subsector they are involved in, company, job title, city and state the company is located, work and personal email and work phone number. This information is entered into a SharePoint system in order to track the clearance process and to provide a real-time status of a nominee [and Stakeholders] to federal nominators and DHS employees who have a need to know. The OCSO Security Specialist is informed that the nominee is ready to start the clearance process and the Personally Identifiable Information (PII) is requested and input into the Electronic Questionnaires for Investigations Processing (e-QIP) system, the Office of Personnel Management's (OPM) secure portal for investigation processing. Once the data is entered into e-QIP, the nominee is provided a password and can access the system and complete the online security questionnaire.

This information is only available to Security Specialists within OCSO working on the program and is maintained in the Integrated Security Management System (ISMS), which is “owned” by the OCSO. The two-part PII request process helps minimize the collection of sensitive PII for only those nominees who meet the threshold and are sponsored by CISA.

Number of Respondents

The current estimate of annual respondents is 660, however, based on recent program data, CISA is revising the estimate to 550.

Estimated Time per Response

CISA is choosing to retain the estimate of 10 minutes (0.1667 hours) per response in the current information collection.

Annual Burden Hours

In the current information collection, the estimated annual burden is 110 hours. To estimate the annual burden hours for this collection, the CISA multiplied the number of annual respondents by the estimated time burden of 0.1667 hours (10 minutes), for an estimated annual burden of 91.67 hours (i.e., 0.1667 hours multiplied by 550 annual respondents).

Total Annual Burden

To estimate the total annual burden, CISA multiplied the annual burden of 24,879 hours by the average loaded hourly wage rate computer and information systems managers of $110.66 ¹ per hour. Therefore, the total annual burden cost for the collection is $10,144 (91.67 hours × $110.66). For the three-year period for which this collection will be approved, the total cost burden would be $6,603,456 ($2,201,152 annual cost multiplied by 3 years).

¹ The above Average Hourly Wage Rate is the May 2021 Bureau of Labor Statistics average wage for Computer and Information Systems Managers (11-3021) of $78.33 times the wage rate benefit multiplier of 1.4127 (to account for fringe benefits) equaling $110.66. The benefits multiplier is estimated by dividing total compensation of $37.24 by salaries and wages of $26.36, based on Employer Cost for Employee Compensation, September 2021, released December 16, 2021 (https://www.bls.gov/news.release/archives/ecec_12162021.pdf).

This is a revised information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

Analysis

Agency: Department of Homeland Security, Cybersecurity and Infrastructure Security Agency.

Title of Collection: State, Local, Tribal and Private Sector (SLTPS) Clearance Request Program.

OMB Number: 1670-0013.

Instrument: DHS Form 9014: State, Local, Tribal and Private Sector (SLTPS) Clearance Request Form.

Frequency: “Other”.

Affected Public: Business or other for-profit.

Number of Respondents: 550 respondents.

Estimated Time per Respondent: 0.1667 hours (10 minutes).

Total Burden Hours: 91.67 annual burden hours.

Total Burden Cost (capital/startup): $0.

Total Recordkeeping Burden: $0.

Total Burden Cost: $10,144.

Authority: 6 U.S.C. 121, 150.

Robert Costello,
Chief Information Officer, Cybersecurity and Infrastructure Security Agency, Department of Homeland Security.

[FR Doc. 2022-25273 Filed 11-18-22; 8:45 am]

BILLING CODE P